DEPARTMENT OF HEALTH AND HUMAN SERVICES

Administration for Children and Families

Notice of Meeting; National Commission on Children and Disasters

AGENCY: Administration for Children and Families, Department of Health and Human Services.

ACTION: Notice of meeting.

DATES: The meeting will be held on Friday, February 27, 2009, from 8:30 a.m. to 12 p.m.

ADDRESSES: The meeting will be held at the U.S. Department of Health and Human Services, 200 Independence Avenue, SW., Washington, DC 20201. To attend either in person or via teleconference, please register by 5 p.m. Eastern Time, February 24, 2009. To register, please e-mail carol.apelt@acf.hhs.gov with “Meeting Registration” in the subject line, or call (202) 205-4618. Registration must include your name, affiliation, and phone number. If you require a sign language interpreter or other special assistance, please call Carol Apelt at (202) 205-4618 as soon as possible and no later than 5 p.m. Eastern Time, February 13, 2009.

Agenda: As pertaining to all hazards, including man-made and natural disasters, the Commission will hear subcommittee presentations on and discuss recommendations regarding: (1) Acute medical care and countermeasures; (2) disaster case management and recovery; (3) sheltering; (4) mental health; and (5) other matters as may reasonably come before the Commission and plans for future work of the Commission.

Additional Information: Contact Roberta Lavin, Office of Human Services Emergency Preparedness and Response, e-mail roberta.lavin@acf.hhs.gov or (202) 401-9306.

SUPPLEMENTARY INFORMATION: The National Commission on Children and Disasters is an independent Presidential Commission that shall independently conduct a comprehensive study to examine and assess the needs of children as they relate to preparation for, response to, and recovery from all hazards, building upon the evaluations of other entities and avoiding unnecessary duplication by reviewing the findings, conclusions, and recommendations of these entities. The Commission shall then submit a report to the President and the Congress on the Commission's independent and specific findings, conclusions, and recommendations to address the needs of children as they relate to preparation for, response to, and recovery from all hazards, including major disasters and emergencies.

Dated: February 5, 2009.
Curtis L. Coy,
Acting Assistant Secretary for Children and Families.

[FR Doc. E9-2886 Filed 2-10-09; 8:45 am]

BILLING CODE 4184-01-P